DEPARTMENT OF THE INTERIOR

Fish and Wildlife Service

Availability of Comprehensive Conservation Plan and Summary for Browns Park National Wildlife Refuge, Maybell, CO

AGENCY: Fish and Wildlife Service, Interior.

ACTION: Notice of availability.

SUMMARY: Pursuant to the Refuge Improvement Act of 1997, the U.S. Fish and Wildlife Service has published the Browns Park National Wildlife Refuge Comprehensive Conservation Plan. This Plan describes how the FWS intends to manage the Browns Park NWR for the next 10-15 years.

ADDRESSES: A copy of the Plan or Summary may be obtained by writing to U.S. Fish and Wildlife Service, Browns Park NWR, 1318 Highway 318, Maybell, CO 81640; or download from http://www.r6.fws.gov/larp/.

FOR FURTHER INFORMATION CONTACT: Allison Banks, U.S. Fish and Wildlife Service, P.O. Box 25486 DFC, Denver, CO 80225, 303/236-8145 extension 626; fax 303/236-4792.

SUPPLEMENTARY INFORMATION: Browns Park NWR is located in northwest Colorado. Implementation of the Plan will focus on adaptive resource management of riparian, wetland, grassland, and semidesert shrubland habitats and improved opportunities for compatible wildlife-dependent recreation. Habitat monitoring and evaluation will be emphasized as the Plan is implemented. Opportunities for compatible wildlife-dependent recreation will continue to be provided.

Dated: February 16, 2000.
Terry T. Terrell,
Deputy Regional Director, Denver, Colorado.

[FR Doc. 00-4724 Filed 2-28-00; 8:45 am]

BILLING CODE 4310-55-M